DEPARTMENT OF JUSTICE

Notice of Lodging of a Proposed Amended Consent Decree Under the Clean Water Act

On November 19, 2014, the Department of Justice lodged a proposed Amended Consent Decree with the United States District Court for the Western District of Missouri in the lawsuit entitled United States v. The City of Kansas City, Missouri, Civil Action No. 4:10-cv-0497-GAF, proposing to modify the implementation schedule for certain injunctive measures required under the original Consent Decree entered in this matter on September 27, 2010, resolving Kansas City's alleged violations of the Clean Water Act (“CWA” or “Act”).

The Consent Decree (“CD”) requires, among other measures intended to reduce or eliminate sewage overflows from Kansas City's sewer system, that Kansas City (“KC”) build 68 million gallons of additional storage tank capacity at the City's 87th Street Pumping Station in two phases: Phase I (20 MM gallons) is due to be completed in 2016; Phase II (remaining 48 MM gallons) is due to be completed in 2024. The proposed Amendment would allow the City to defer the Phase I construction so that completion of both phases of the project is due upon the 2024 completion date for Phase II. KC has requested this Amendment because some or all of this additional capacity may become unnecessary. In exchange for deferring Phase I of this project, KC has agreed to accelerate implementation of several other components of the injunctive relief required by the Consent Decree.

The publication of this notice opens a period for public comment on the Consent Decree. Comments should be addressed to the Assistant Attorney General, Environment and Natural Resources Division, and should refer to United States v. Kansas City, Civil Action No. 4:10-cv-0497-GAF. DJ Reference Number 90-5-1-1-06438/1.

All comments must be submitted no later than thirty (30) days after the publication date of this notice. Comments may be submitted either by email or by mail:

To submit comments: | Send them to:
By email | pubcomment-ees.enrd@usdoj.gov.
By mail | Assistant Attorney General, U.S. DOJ-ENRD, P.O. Box 7611, Washington, DC 20044-7611.

During the public comment period, Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $ 2.75 (25 cents per page reproduction cost) payable to the United States Treasury.

Susan M. Akers,
Assistant Section Chief, Environmental Enforcement Section, Environment and Natural Resources Division.

[FR Doc. 2014-27957 Filed 11-25-14; 8:45 am]

BILLING CODE 4410-15-P